DEPARTMENT OF AGRICULTURE

Forest Service

Navy Timber Sale Environmental Impact Statement

AGENCY: Forest Service, USDA.

ACTION: Revised Notice of Intent to prepare an Environmental Impact Statement.

SUMMARY: This NOI revises information supplied in the NOI previously published in the Federal Register Vol. 71, No. 14 (pages 3454-3455) on January 23, 2006. The Department of Agriculture, Forest Service, will prepare an Environmental Impact Statement (EIS) on a proposal to harvest timber in the Navy Timber Sale project area on the Wrangell Ranger District, Tongass National Forest. The Proposed Action is to harvest 54 million board feet of sawtimber and 7.7 million board feet of utility from approximately 4,700 acres in one or more offerings and would construct approximately 17 miles of National Forest System road and 16 miles of temporary road to facilitate access for logging. The Proposed Action includes harvest units and road construction within Inventoried Roadless Areas, as identified in the Forest Plan SEIS. The Proposed Action includes the use of the existing Log Transfer Facility (LFT) at Anita Bay as well as the construction of a new LTF at the entrance to Burnett Inlet near Navy Creek. The Proposed Action includes a non-significant amendment to the Forest Plan to modify the boundaries of the Burnett, Anita Bay, Mosman and Quiet small old-growth reserves. The Forest Supervisor will decide if and how much timber harvest and road building will occur within the project area, as well as modify the existing small old-growth reserves. The decision will be documented in a Record of Decision based on the information disclosed in the EIS.

DATES: A public mailing outlining the project timeline and public involvement opportunities opportunities (Schedule of Proposed Actions) was distributed quarterly from January 2006 to April 2007. Additional opportunities for comment will be provided after release of the Draft Environmental Impact Statement (DEIS). The DEIS is projected to be filed with the Environmental Protection Agency (EPA) in Fall 2007 and will begin a 45-day comment period. The Final Environmental Impact Statement (FEIS) and Record of Decision are anticipated to be published in Spring 2008.

ADDRESSES: Please send written comments to Wrangell Ranger District, Attn: Navy EIS, PO Box 51, Wrangell, AK 99929. Electronic comments can be e-mailed to comments-alaska-tongass-wrangell@fs.fed.us. Please include the word “Navy” in the subject line.

FOR FURTHER INFORMATION CONTACT: Jamie Roberts, Planning Team Leader, or Mark Hummel, District Ranger, Wrangell Ranger District, P.O. Box 51, Wrangell, AK 99929, telephone (907) 874-2323.

SUPPLEMENTARY INFORMATION: The Navy project area is located on central Etolin Island approximately 22 air miles southwest of Wrangell, Alaska. The project area is within portions of Value Comparison Units #464, 465, 466, 467 and 468. Portions of three Inventoried Roadless Areas, North Etolin #232, Mosman #233 and South Etolin #234, as identified in the Forest Plan SEIS, are located within the project area. Timber harvest and road building is proposed within the Inventoried Roadless Areas. The project area includes four small old-growth reserves (Mosman, Quiet, Anita Bay and Burnett) as designated in the Forest Plan. A Forest Plan amendment would be required if a decision is made to modify any old-growth reserve. The Forest Supervisor will decide if and how much timber harvest and road building will occur within the project areas, as well as whether to modify the existing small old-growth reserves. The decision will be based on the information that is disclosed in the EIS. The Forest Supervisor will consider comments, responses, the disclosure of environmental effects, and applicable laws, regulations, and policies in making the decision. The rationale for the decision will be included in the Record of Decision.

Purpose and Need for Action: The purpose and need for the Navy Timber Sale is: (1) To manage suitable lands to achieve 1997 Forest Plan goals and objectives in order to reach the desired future conditions prescribed for the Land Use Designations; (2) to assist in providing a continuous wood supply to meet society's needs; (3) and to contribute to the job market and the overall economy of southeast Alaska.

Public Participation: Public participation has been an integral component of the study process and will continue to be especially important at several points during the analysis. The Forest Service will continue to seek information, comments and assistance from tribal governments, federal, state and local agencies, individuals and organizations that may be interested in or affected by the proposed activities. Written scoping comments have been solicited through a scoping package that was sent to persons on the project mailing list in November 2005. Additional written scoping comments have been solicited through a scoping package that was sent to persons on the project mailing list concurrent with the publication of the initial NOI in January 2006. Subsistence hearings, as provided for in Title VIII, Section 810 of the Alaska National Interest Lands Conservation Act (ANILCA), will be provided, if necessary, during the comment period on the DEIS.

Electronic Filing Address: Electronic comments can be e mailed to comments-alaska-tongass-wrangell@fs.fed.us. Please include the word “Navy” in the subject line.

Issues: Based on the comments received from the public and resource specialists the issues identified for analysis in the EIS include: (1) The effect of timber harvest on the local and regional economies; (2) the effect of the location of small Old-growth Reserves on wildlife habitat; (3) the effect of habitat fragmentation, due to harvest and road building, on wildlife habitat; (4) the effect of timber harvest and road construction on Inventories Roadless Areas and unroaded areas; (5) and effects to aquatic resources and from increased access in the Navy Drainage due to timber harvest, road construction and LTF construction.

Range of Alternatives: The range of alternatives that are being developed to respond to the significant issues, besides no action, range from 18-98 million board feet.

Draft Environmental Impact Statement: A Draft Environmental Impact Statement (DEIS) will be prepared for comment. The comment period on the DEIS will be 45 days from the date the Environmental Protection Agency publishes the Notices of Availability in the Federal Register. The Forest Service believes, at this early stage, it is important to give reviewers notice of several court rulings related to public participation in the environmental review process. First, reviewers of Draft Environmental Impact Statements must structure their participation in the environmental review of the proposal so that it is meaningful and alerts an agency to the reviewer's position and contentions. Vermont Yankee Nuclear Power Corp. v. NRDC, 435 U.S. 519, 553 (1978). Also, environmental objections that could be raised at the DEIS stage but that are not raised until after completion of the Final Environmental Impact Statement (FEIS) may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the comment period so that substantive comments and objections are made available to the Forest Service at a time when it can meaningfully consider them and respond to them in the FEIS. To assist the Forest Service in identifying and considering issues and concerns on the proposed action, comments on the DEIS should be as specific as possible. It is also helpful if comments refer to specific pages or chapters of the draft statement. Comments may also address the adequacy of the DEIS or the merits of the alternatives formulated and discussed in the statement. Reviewers may wish to refer to the Council on Environmental Quality Regulations for implementing the procedural provisions of the National Environmental Policy Act at 40 CFR 1503.3 in addressing these points. Comments received, including the names and addresses of those who comment, will be considered part of the public record on this proposal and will be available for public inspection.

Responsible Official: Forrest Cole, Forest Supervisor, Tongass National Forest, Federal Building, Ketchikan, Alaska 99901, is the responsible official. The responsible official will consider comments, responses, the disclosure of environmental effects, and applicable laws, regulations, and policies in making the decision. The rationale for the decision will be included in the Record of Decision.

(Authority: 40 CFR 1501.7 and 1508.22; Forest Service Handbook 1909.15, Section 21)

Dated: May 14, 2007.
Forrest Cole,
Forest Supervisor.

[FR Doc. 07-2507 Filed 5-18-07; 8:45 am]

BILLING CODE 3410-11-M